DEPARTMENT OF EDUCATION

34 CFR Chapter III

[Docket ID ED-2024-OSERS-0001]

Technical Assistance on State Data Collection—IDEA Data Management Center

AGENCY: Office of Special Education and Rehabilitative Services, Department of Education.

ACTION: Final priority.

SUMMARY: The Department of Education (Department) announces a priority for the IDEA Data Management Center (Center) under the Technical Assistance on State Data Collection program. The Department may use this priority in fiscal year (FY) 2025 and later years. This priority replaces the priority published in the Federal Register on August 5, 2014, and the priority published on July 10, 2020. We will use the priority to award a cooperative agreement for a Center to provide technical assistance (TA) to improve the capacity of States to meet the data collection and reporting requirements under Part B and Part C of the Individuals with Disabilities Education Act (IDEA).

DATES: The priority is effective July 25, 2025.

FOR FURTHER INFORMATION CONTACT: Amy Bae, U.S. Department of Education, 400 Maryland Avenue SW, Room 4A224, Washington, DC 20202. Telephone: (202) 987-1557. Email: Amy.Bae@ed.gov.

If you are deaf, hard of hearing, or have a speech disability and wish to access telecommunications relay services, please dial 7-1-1.

SUPPLEMENTARY INFORMATION:

Purpose of Program: The purpose of the Technical Assistance on State Data Collection program is to improve the capacity of States to meet IDEA data collection and reporting requirements. Funding for the program is authorized under section 611(c)(1) of IDEA, which gives the Secretary authority to reserve not more than one-half of one percent of the amounts appropriated under Part B for each fiscal year to provide TA activities, where needed, to improve the capacity of States to meet the data collection and reporting requirements under Parts B and C of IDEA. The maximum amount the Secretary may reserve under this set-aside for any fiscal year is $25,000,000, cumulatively adjusted by the rate of inflation. Section 616(i) of IDEA requires the Secretary to review the data collection and analysis capacity of States to ensure that data and information determined necessary for implementation of section 616 and 642 of IDEA are collected, analyzed, and accurately reported to the Secretary. It also requires the Secretary to provide TA, where needed, to improve the capacity of States to meet the data collection requirements, which include the data collection and reporting requirements in sections 616 and 618 of IDEA. In addition, the Further Consolidated Appropriations Act, 2024, Public Law 118-47, gives the Secretary authority to use funds reserved under section 611(c) of IDEA to “administer and carry out other services and activities to improve data collection, coordination, quality, and use under parts B and C of the IDEA.” Further Consolidated Appropriations Act, 2024, Public Law 118-47, Div. D, Title III, 138 Stat. 460, 685 (2024).

Assistance Listing Number: 84.373M.

Program Authority: 20 U.S.C. 1411(c), 1416(i), 1418(c), 1418(d), 1442; Further Consolidated Appropriations Act, 2024, Public Law 118-47, Div. D, Title III, 138 Stat. 460, 685 (2024).

Applicable Program Regulations: 34 CFR 300.702.

We published a notice of proposed priority (NPP) for this program in the Federal Register on November 7, 2024 (89 FR 88185). That document contained background information and our reasons for proposing the priority.

Public Comment: In response to our invitation in the NPP, 14 parties submitted comments addressing the proposed priority. We received two additional comments unrelated to the priority.

Generally, we do not address technical and other minor changes, or suggested changes the law does not authorize us to make under the applicable statutory authority. In addition, we do not address general comments that raised concerns not directly related to the proposed priority.

Analysis of Comments and Changes: An analysis of the comments and of any changes in the priority since publication of the NPP follows. We received comments on a number of specific topics, including the topics for TA. Each topic is addressed below.

General Comments

Comments: Eleven commenters specifically expressed support for the proposed Center, as it would assist States in collecting, reporting, and determining how to best analyze and use their Part B and Part C data.

Discussion: The Department appreciates the comments and agrees with the commenters that the Center funded under this program will provide necessary and valuable TA to States to improve the capacity of States to meet their IDEA data collection, analysis, and reporting requirements.

Changes: None.

Comment: One commenter suggested that the Center prioritize opportunities for automating required data reporting processes to improve efficiency and reduce the workload for State staff.

Discussion: The Department agrees the Center must support State educational agencies (SEAs) and lead agencies to implement services that maximize efficiency. In its proposed approach to intensive, sustained TA the Center must identify how it will maximize these investments and reduce inefficiencies. Additionally, the Center must describe how it will develop products and implement services that maximize efficiency.

Changes: None.

Alignment With Selection Criteria

Comment: None.

Discussion: In using this priority in a notice inviting applications, the priority's reference to selection criteria should align with the selection criteria being used.

Changes: We are revising the selection criteria headings with the priority by removing “Quality of project services” and “Quality of the project personnel” and replacing with “Quality of the project design” and just “Adequacy of resources.” We are also revising application and administrative requirements to align with the actual factors being used under “Adequacy of resources” and “Quality of the management plan” in the notice inviting applications.

Part C and Part B, 619 Preschool Data

Comments: All eleven commenters who wrote comments related to the Center providing TA on Part C and Part B, 619 preschool special education data were supportive of the expanded scope of the Center to enhance States' capacity to manage, collect, coordinate, report, and integrate Part C and Part B preschool special education data. Specifically, commenters supported expanding the scope to develop, in partnership with the Department, an open-source electronic tool to assist States with linking and integrating their IDEA Part C early intervention and IDEA Part B preschool special education data with other data or data systems associated with other Federal programs and services that support infants, toddlers, and young children and their families.

Discussion: The Department agrees that it is important to support the expanded scope to include Part C and Part B preschool special education data. The expanded scope supports States so that they can develop and implement Early Childhood Integrated Data Systems (ECIDS) that coordinate, link, and integrate child-level data in IDEA Part C and IDEA Part B preschool special education data with other early care and education program data in order to provide high-quality reporting of the IDEA Part C data and IDEA Part B preschool special education data required under sections 616 and 618 of IDEA; drive program improvement; improve results for children with disabilities; and improve compliance accountability.

Changes: None.

Capacity

Comments: Three commenters addressed specific challenges that make it difficult for many Part C lead agencies to engage in data linking and data integration activities. Commenters mentioned challenges such as lack of sufficient fiscal resources, major workforce shortages, technology, as well as State staff shortages and significant staff turnover.

Discussion: The Department acknowledges that States vary in their levels of interest, capability, and commitment to share, link, or integrate their Part C and Part B preschool special education data with data from other early learning data systems. Additionally, we recognize that engaging in TA regarding data sharing, linking, and integrating requires a significant commitment of State staff and resources. We also appreciate the recommendation to assess the readiness of States to engage in TA on this topic. To address these issues, applicants are required to identify the process by which the proposed project will measure the readiness of potential TA recipients to work with the project, assessing, at a minimum, their current infrastructure, available resources, and ability to build capacity at the State and local level. Additionally, as part of its intensive, sustained TA, applicants are required to identify the process by which the proposed project will address States' challenges associated with integrating IDEA Part B data within State longitudinal data systems (SLDS) and IDEA Part C and IDEA Part B preschool special education data within ECIDS.

Changes: None.

Focus

Comments: Two commenters suggested that the Center focus on developing robust resources and supporting States on linking and integrating data within and across IDEA Part C and Part B 619 before focusing on cross-sector early childhood integration work, such as work carried out through the ECIDS system.

Discussion: The Department acknowledges that States vary in their levels of interest, capability, and commitment to share, link, or integrate their Part C and Part B preschool special education data with data from other early learning data systems. This variability is influenced by factors such as staffing, existing data infrastructure, and resource availability. Additionally, we recognize that engaging in TA regarding data sharing, linking, and integrating requires a significant commitment of State staff and resources. The Center's expected outcomes focus on increasing the capacity of States to collect, report, analyze, and use Part C early intervention and Part B preschool special education data to improve State IDEA data analyses regarding results and functional outcomes for all infants, toddlers, and young children with disabilities. Recognizing that States differ in their levels of interest, capability, and commitment, the Department acknowledges that levels of readiness will vary. The Center will be equipped to support States based on their unique needs, meeting them where they are and adapting to their specific circumstances. Some States may be well-positioned to engage in cross-sector early childhood integration work, particularly through systems like ECIDS, while others may still be developing their data systems or needing additional support with Part C services before integrating with other sectors. In these cases, a more foundational approach to building data capacity will be necessary. The Center should align its support with each State's capacity, focusing on enhancing their ability to collect, report, analyze, and use Part C and Part B data to improve results and outcomes for all infants, toddlers, and young children with disabilities. This nuanced approach ensures that the Center can provide targeted support, whether that support involves foundational data integration or more advanced cross-sector collaboration. The Department is fully committed to embedding this flexibility into the Center's approach, ensuring that each State receives the right support at the right time.

Changes: To provide more flexibility in how the Center can support States based on their levels of readiness, we have changed the requirement that the Center allocate at least 50 percent of the grant award to provide targeted and intensive TA to States to only require the 50 percent allocation to targeted and intensive TA in years three through five. While the NPP required a specific funding allocation for this purpose for all five years, we recognize that States have varying levels of readiness, resources, and capacity when it comes to sharing, linking, and integrating data. In response to comments about how much support the Part C entities might need, and their varying levels of readiness, we are changing this requirement to provide maximum flexibility to the Center in years one and two to support the States based on their levels of readiness. This change allows for more flexibility in years one and two for the provision of general TA, if needed, such as the development of innovative tools, including an open-source electronic tool, that can better support all States regardless of the stage they are in on data integration. By allowing the Center to determine how best to develop and align resources with State readiness, we create an opportunity for the Center to more effectively budget for product development and TA provision.

Collaboration/Coordination

Comments: Five commenters pointed out that there may be overlap between the work of this Center and the National Technical Assistance Center to Improve State Capacity To Collect, Report, Analyze, and Use Accurate Early Childhood IDEA Data (DaSy Center). Two commenters expressed concern that the work of this Center could duplicate the efforts of the DaSy Center, potentially leading to inefficiencies. Three commenters emphasized the necessity for better coordination between the two Centers. They noted that both Centers share complimentary objectives and working together could enhance their effectiveness and ensure resources are utilized optimally. Another commenter emphasized the importance of collaborating with centers funded by the Department of Health and Human Services, Administration for Children and Families.

Discussion: The Department recognizes the related scope between the proposed IDEA Data Management Center and the DaSy Center and agrees that coordination will be critical to maximize these investments and reduce inefficiencies, and agrees that it is important that this Center work in partnership with the other Federally funded centers. While related, the scope of the IDEA Data Management Center is not duplicative of the DaSy Center. They have distinct work scopes with different focuses. The IDEA Data Management Center supports States in improving their data systems, helping them manage the collection, reporting, analysis, and use of data. This work includes providing an open-source tool to assist with data management and reporting. In contrast, the DaSy Center provides broader support, helping States develop and use data systems to improve outcomes for young children. Additionally, as States develop and implement ECIDS, the Department recognizes the importance of collaborating with centers funded by the Department of Health and Human Services, Administration for Children and Families. Therefore, applicants must identify the process by which the proposed project will collaborate with the Office of Special Education Programs (OSEP)-funded centers and other federally funded TA centers to develop and implement a coordinated TA plan when the work of the center or centers are related to the proposed project.

Changes: None.

Privacy

Comment: One commenter recommended that the Center leverage and coordinate with the Department's Privacy Technical Assistance Center (PTAC) and other existing resources to ensure strict compliance with Federal data privacy requirements. The commenter also recommended that the notice have a clear scope of the privacy and security measures that will be required so applicants know in advance the requirements that they will need to follow. Another commentor noted that the explicit focus on compliance with data privacy, as included in IDEA and the Family Educational Rights and Privacy Act (FERPA), will provide important data security protection.

Discussion: The Department agrees that data systems must allow the States to comply with applicable privacy requirements, including the privacy and confidentiality requirements under Parts B and C of the IDEA and FERPA (20 U.S.C. 1232g) and its regulations at 34 CFR part 99. As noted in the priority, the Center's work will comply with the privacy and confidentiality protections under IDEA and FERPA. Additionally, the Center is expected to increase the capacity of States to use interagency agreements or other mechanisms to coordinate and integrate IDEA Part B and IDEA Part C data required under sections 616 and 618 of IDEA within their SLDS while meeting the applicable privacy requirements under Parts B and C of the IDEA and FERPA (which may include developing or disseminating TA resources on privacy, interagency agreements on data sharing and/or data coordination, and integration). Finally, in its proposed approach to targeted, specialized TA, the Center must identify its approach to collaborate with centers that provide TA in the area of privacy, including the DaSy Center and PTAC.

Changes: None.

Final Priority

IDEA Data Management Center.

Priority

The purpose of this priority is to fund a cooperative agreement to establish and operate an IDEA Data Management Center (Data Management Center). The Data Management Center will respond to State needs as States determine whether and how to coordinate and integrate their IDEA Part B and Part C data required to meet the data collection requirements in sections 616 and 618 of IDEA into their longitudinal data systems (including SLDS and ECIDS) while ensuring applicable IDEA and FERPA privacy protections are met. This integration will improve the capacity of States to collect, report, analyze, and use high-quality IDEA Part B and Part C data to establish and meet high expectations for each child with a disability. The Data Management Center will help States address challenges with data management procedures and data systems architecture and better meet current and future IDEA Part B and Part C data collection and reporting requirements. The Data Management Center's work will comply with the privacy and confidentiality protections under IDEA and FERPA. The Data Management Center will not provide the Department with access to child-level data and will further ensure that such data is de-identified, as defined in FERPA at 34 CFR 99.31(b)(1).

The Data Management Center must be designed to achieve, at a minimum, the following expected outcomes:

(a) Increased capacity of States to use interagency agreements or other mechanisms to coordinate and integrate IDEA Part B and IDEA Part C data required under sections 616 and 618 of IDEA within their SLDS while meeting the applicable privacy requirements under Parts B and C of the IDEA and FERPA (which may include developing or disseminating TA resources on privacy, interagency agreements on data sharing and/or data coordination, and integration);

(b) Increased use of IDEA Part B and IDEA Part C data within States by developing products to allow States to report their special education, preschool special education, and early intervention data to various partners (e.g., other State agencies, policymakers, school and early care and education program personnel, local and State school boards, local educational agency (LEA) administrators, early care and education childhood administrators, researchers, charter school authorizers, parents and advocates, Indian Tribes, and Tribal organizations) through their longitudinal data systems;

(c) Increased number of States that use data governance and data management procedures to increase their capacity to meet the IDEA Part B and IDEA Part C reporting requirements under sections 616 and 618 of IDEA;

(d) Increased capacity of States to utilize their SLDS and ECIDS to collect, report, analyze, and use high-quality IDEA Part B and IDEA Part C data (including data required under sections 616, 618, and 642 of IDEA);

(e) Increased capacity of States to use their SLDS and ECIDS to analyze high-quality data on the participation and outcomes of children with disabilities who receive services under IDEA and under Title I of the Elementary and Secondary Education Act of 1965, as amended (ESEA), to improve IDEA and ESEA programs and the outcomes of children with disabilities; and

(f) Increased capacity of States to coordinate and use available IDEA Part C early intervention data with IDEA Part B preschool special education data (and to integrate or link such data with ECIDS, if applicable) to analyze high-quality data on the participation and outcomes of infants, toddlers, and children with disabilities served under IDEA who may also participate in other programs and services (e.g., child care, Early Head Start, Head Start, publicly funded preschool, and home visiting programs).

In addition to these program requirements, to be considered for funding under this priority, applicants must meet the application and administrative requirements in this priority, which are:

(a) Describe, in the narrative section of the application under “Significance,” how the proposed project will—

(1) Address State challenges associated with State data management procedures, data systems architecture, and building EDFacts data files and reports for timely reporting of the IDEA Part B and IDEA Part C data to the Department and the public. To meet this requirement the applicant must—

(i) Present applicable national, State, or local data demonstrating the difficulties that States have encountered in the collection and submission of valid and reliable IDEA Part B and IDEA Part C data;

(ii) Demonstrate knowledge of current educational and technical issues and policy initiatives relating to IDEA Part B data and IDEA Part C collections and EDFacts file specifications for the IDEA Part B and IDEA Part C data collections; and

(iii) Present information about the current level of implementation of integrating IDEA Part B data within SLDS and IDEA Part C and IDEA Part B preschool special education data within ECIDs, and the reporting of high-quality IDEA Part B and IDEA Part C data to the Department and the public.

(b) Describe, in the narrative section of the application under “Quality of the project design,” how the proposed project will—

(1) Achieve its goals, objectives, and intended outcomes. To meet this requirement, the applicant must provide—

(i) Measurable intended project outcomes; and

(ii) In Appendix A, the logic model (as defined in 34 CFR 77.1) by which the proposed project will achieve its intended outcomes that depicts, at a minimum, the goals, activities, outputs, and intended outcomes of the proposed project;

(2) Use a conceptual framework (and provide a copy in Appendix A) to develop project plans and activities, describing any underlying concepts, assumptions, expectations, beliefs, or theories, as well as the presumed relationships or linkages among these variables, and any empirical support for this framework;

Note: The following website provides more information on logic models and conceptual frameworks: https://ies.ed.gov/ncee/rel/Products/Region/central/Resource/100644.

(3) Be based on current research and make use of evidence-based ¹ practices (EBPs). To meet this requirement, the applicant must describe—

¹ For the purposes of these requirements, “evidence-based” means the proposed project component is supported by one or more of strong evidence, moderate evidence, promising evidence, or evidence that demonstrates a rationale (as such terms are defined in 34 CFR 77.1).

(i) The current research on data collection strategies, data management procedures, and data systems architecture; and

(ii) How the proposed project will incorporate current research and EBPs in the development and delivery of its products and services;

(4) Develop products and provide services that are of high quality and sufficient intensity and duration to achieve the intended outcomes of the proposed project. To address this requirement, the applicant must describe—

(i) How it proposes to identify or develop the knowledge base on States' data management processes and data systems architecture;

(ii) A plan to provide a range of products and services to—

(A) Improve States' capacity to report high-quality IDEA Part B and Part C data required under sections 616, 618, and 642 of IDEA through their SLDS and other applicable data systems; and

(B) Improve States' capacity to link and integrate (where determined appropriate by States) their IDEA Part C early intervention and IDEA Part B preschool special education data with data/data systems associated with other Federal programs and services that support infants, toddlers, and young children and their families in order to report high-quality IDEA Part C data and IDEA Part B preschool special education data required under sections 616 and 618 of IDEA. The plan must include, at a minimum, how the project will—

(1) In Years 1 through 5—

(i) Support, in partnership with the Department, the implementation of an existing open-source electronic tool to assist States in building EDFacts data files and reports that can be submitted to the Department and made available to the public. The tool must utilize Common Education Data Standards (CEDS) and meet all States' needs associated with reporting the IDEA Part B and Part C data required under sections 616, 618, and 642 of IDEA;

(ii) Provide maintenance to support the appropriate functionality of the open-source electronic tool as changes are made to data collections, reporting requirements, file specifications, and CEDS (such as links within the system to include TA products developed by other Office of Special Education Programs (OSEP) and Department-funded centers or contractors);

(iii) Provide TA focused on data governance to facilitate the use of the open-source electronic tool and training to State staff to implement the open-source electronic tool;

(iv) Revise the CEDS “Connections” to calculate metrics needed to report the IDEA Part B and Part C data required under sections 616 and 618 of IDEA;

(v) Develop other outputs (e.g., reports, Application Programming Interface, new innovations) of an open-source electronic tool that can support reporting by States of IDEA Part B data to different partner groups (e.g., LEAs, charter schools, legislative branch, parents);

(vi) Implement strategies to support the inclusion of other OSEP and Department-funded TA centers' products within the open-source electronic tool or build connections that allow the SEAs to pull IDEA Part B data efficiently into the other TA products;

(vii) Support a user group of States that are using an open-source electronic tool for reporting IDEA Part B data required under sections 616 and 618 of IDEA; and

(viii) Develop products and presentations that include tools and solutions to challenges in data management procedures and data system architecture for reporting the IDEA Part B and Part C data required under sections 616 and 618 of IDEA;

(2) In Years 2 through 5—

(i) Develop, in partnership with the Department, an open-source electronic tool to assist States with linking and integrating their IDEA Part C early intervention and IDEA Part B preschool special education data with other data/data systems associated with other Federal programs and services that support infants, toddlers, and young children and their families, in order to provide high-quality reporting of the IDEA Part C data and IDEA Part B preschool special education data required under sections 616 and 618 of IDEA; drive program improvement; improve results for children with disabilities; and improve compliance accountability. The tool must utilize CEDS and meet States' needs associated with linking or integrating their Part C early intervention and Part B preschool special education data with other data/data systems associated with other Federal programs that support infants, toddlers, and young children and their families;

(ii) Develop the CEDS “Connections” to ensure the electronic tool is built for States to conduct analyses related to reporting the IDEA Part C data and IDEA Part B preschool special education data required under sections 616 and 618 of IDEA, driving program improvement, improving results for children with disabilities and their families, and improving compliance accountability;

(iii) Provide maintenance to support the appropriate functionality of the open-source electronic tool as changes are made to data reporting requirements and CEDS;

(iv) Provide TA on data governance to facilitate the use of the open-source electronic tool and training to State staff to implement the open-source electronic tool; and

(v) Support a user group of States that are using an open-source electronic tool for reporting the IDEA Part C data and IDEA Part B preschool special education data required under sections 616, 618, and 642 of IDEA;

(iii) Its proposed approach to universal, general TA,² which must identify the intended recipients, including the type and number of recipients, that will receive the products and services, a description of the products and services that the Center proposes to make available, and the expected impact of those products and services under this approach;

² “Universal, general TA” means TA and information provided to independent users through their own initiative, resulting in minimal interaction with TA center staff and including one-time, invited or offered conference presentations by TA center staff. This category of TA also includes information or products, such as newsletters, guidebooks, or research syntheses, downloaded from the TA center's website by independent users. Brief communications by TA center staff with recipients, either by telephone or email, are also considered universal, general TA.

(iv) Its proposed approach to targeted, specialized TA,³ which must identify—

³ “Targeted, specialized TA” means TA services based on needs common to multiple recipients and not extensively individualized. A relationship is established between the TA recipient and one or more TA center staff. This category of TA includes one-time, labor-intensive events, such as facilitating strategic planning or hosting regional or national conferences. It can also include episodic, less labor-intensive events that extend over a period of time, such as facilitating a series of conference calls on single or multiple topics that are designed around the needs of the recipients. Facilitating communities of practice can also be considered targeted, specialized TA.

(A) The intended recipients, including the type and number of recipients, that will receive the products and services, a description of the products and services that the Center proposes to make available, and the expected impact of those products and services under this approach; and

(B) Its proposed approach to measure the readiness of potential TA recipients to work with the project, assessing, at a minimum, their current infrastructure, available resources, and ability to build capacity at the local level; and

(C) The process by which the proposed project will collaborate with Department-funded centers (including TA centers such as the DaSy Center that provides Department-funded TA on early childhood data privacy, and the PTAC) and other federally funded TA centers to develop and implement a coordinated TA plan when they are involved in a State;

(v) Its proposed approach to intensive, sustained TA,⁴ which must identify—

⁴ “Intensive, sustained TA” means TA services often provided on-site and requiring a stable, ongoing relationship between the TA center staff and the TA recipient. “TA services” are defined as negotiated series of activities designed to reach a valued outcome. This category of TA should result in changes to policy, program, practice, or operations that support increased recipient capacity or improved outcomes at one or more systems levels.

(A) The intended recipients, including the type and number of recipients from a variety of settings and geographic distribution, that will receive the products and services under this approach;

(B) Its proposed approach to address States' challenges associated with integrating IDEA Part B data within SLDS and IDEA Part C and IDEA Part B preschool special education data within ECIDS and to report high-quality IDEA Part B and IDEA Part C data to the Department and the public, which should, at a minimum, include providing on-site consultants to SEAs and Part C lead agencies to—

(1) Model and document data management and data system integration policies, procedures, processes, and activities within the State;

(2) Support the State's use of an open-source electronic tool and provide technical solutions to meet State-specific data needs;

(3) Develop a sustainability plan for the State to maintain the data management and data system integration work in the future; and

(4) Support the State's cybersecurity plan in collaboration, to the extent appropriate, with the Department's Student Privacy Policy Office and its Privacy Technical Assistance Center;

(5) Develop products and implement services that maximize efficiency. To address this requirement, the applicant must describe—

(i) How the proposed project will use technology to achieve the intended project outcomes;

(ii) With whom the proposed project will collaborate and the intended outcomes of this collaboration; and

(iii) How the proposed project will use non-project resources, such as non-Federal funds and in-kind contributions, to achieve the intended project outcomes; and

(6) Develop a dissemination plan that describes how the applicant will systematically distribute information, products, and services to varied intended audiences, using a variety of dissemination strategies, to promote awareness and use of the Center's products and services.

(c) In the narrative section of the application under “Quality of the project evaluation or other evidence-building,” describe how the project will develop an evaluation plan in consultation with, and to be implemented by, a third-party evaluator.⁵ The evaluation plan must—

⁵ A “third-party” evaluator is an independent and impartial program evaluator who is contracted by the grantee to conduct an objective evaluation of the project. This evaluator must not have participated in the development or implementation of any project activities, except for the evaluation activities, nor have any financial interest in the outcome of the evaluation.

(1) Articulate formative and summative evaluation questions, including important process and outcome evaluation questions. These questions must be related to the project's proposed logic model required under paragraph (b)(2)(ii);

(2) Describe how progress in and fidelity of implementation, as well as project outcomes, will be measured to answer the evaluation questions. Specify the measures and associated instruments or sources for data appropriate to the evaluation questions. Include information regarding reliability and validity of measures where appropriate;

(3) Describe strategies for analyzing data and how data collected as part of this plan will be used to inform and improve service delivery over the course of the project and to refine the proposed logic model and evaluation plan, including subsequent data collection;

(4) Provide a timeline for conducting the evaluation and include staff assignments for completing the plan. The timeline must indicate that the data will be available annually for the Annual Performance Report (APR) and at the end of Year 2; and

(5) Dedicate sufficient funds in each budget year to cover the costs of developing or refining the evaluation plan in consultation with a third-party evaluator, as well as the costs associated with the implementation of the evaluation plan by the third-party evaluator.

(d) Describe, in the narrative section of the application under “Adequacy of resources,” how—

(1) The project will make positive efforts to employ and advance in employment qualified individuals with disabilities;

(2) The applicant and any key partners have adequate resources to carry out the proposed activities; and

(3) The proposed costs are reasonable in relation to the anticipated results and benefits, and funds will be spent in a way that increases their efficiency and cost-effectiveness, including by reducing waste or achieving better outcomes.

(e) Describe, in the narrative section of the application under “Quality of the management plan,” how—

(1) The proposed management plan will ensure that the project's intended outcomes will be achieved on time and within budget. To address this requirement, the applicant must describe—

(i) Clearly defined responsibilities for key project personnel, consultants, and subcontractors, as applicable; and

(ii) Timelines and milestones for accomplishing the project tasks;

(2) Key project personnel and any consultants and subcontractors will be allocated and how these allocations are appropriate and adequate to achieve the project's intended outcomes;

(3) The proposed key project personnel, consultants, and subcontractors have the qualifications and experience to carry out the proposed activities and achieve the project's intended outcomes; and

(4) The proposed management plan will ensure that the products and services provided are of high quality, relevant, and useful to recipients.

(f) Address the following application requirements. The applicant must—

(1) Include, in Appendix A, personnel-loading charts and timelines, as applicable, to illustrate the management plan described in the narrative;

(2) Include, in the budget, attendance at the following:

(i) A one and one-half day kick-off meeting in Washington, DC, after receipt of the award, and an annual planning meeting in Washington, DC, with the OSEP project officer and other relevant staff during each subsequent year of the project period.

Note: Within 30 days of receipt of the award, a post-award teleconference must be held between the OSEP project officer and the grantee's project director or other authorized representative;

(ii) A three-day project directors' conference in Washington, DC, during each year of the project periods, provided that, if the meeting is conducted virtually, the project must reallocate unused travel funds no later than the end of the third quarter of each budget period;

(iii) Three annual two-day trips to attend Department briefings, Department-sponsored conferences, and other meetings, as requested by OSEP; and

(3) Include, in the budget, a line item for an annual set-aside of five percent of the grant amount to support emerging needs that are consistent with the proposed project's intended outcomes, as those needs are identified in consultation with, and approved by, the OSEP project officer. With approval from the OSEP project officer, the project must reallocate any remaining funds from this annual set-aside no later than the end of the third quarter of each budget period;

(4) Provide an assurance that it will maintain a high-quality website, with an easy-to-navigate design, that meets government or industry-recognized standards for accessibility;

(5) Include, in Appendix A, an assurance to assist OSEP with the transfer of pertinent resources and products and to maintain the continuity of services to States during the transition to a new award at the end of this award period, as appropriate; and

(6) Budget at least 50 percent of the grant award, in years three through five, for providing targeted and intensive TA to States.

Types of Priorities

When inviting applications for a competition using one or more priorities, we designate the type of each priority as absolute, competitive preference, or invitational through a notice in the Federal Register. The effect of each type of priority follows:

Absolute priority: Under an absolute priority, we consider only applications that meet the priority (34 CFR 75.105(c)(3)).

Competitive preference priority: Under a competitive preference priority, we give competitive preference to an application by (1) awarding additional points, depending on the extent to which the application meets the priority (34 CFR 75.105(c)(2)(i)); or (2) selecting an application that meets the priority over an application of comparable merit that does not meet the priority (34 CFR 75.105(c)(2)(ii)).

Invitational priority: Under an invitational priority, we are particularly interested in applications that meet the priority. However, we do not give an application that meets the priority a preference over other applications (34 CFR 75.105(c)(1)).

This document does not preclude us from proposing additional priorities, subject to meeting applicable rulemaking requirements.

Note: This document does not solicit applications. In any year in which we choose to use this priority, we invite applications through a notice in the Federal Register.

Executive Orders 12866, 13563, and 14192

Regulatory Impact Analysis

Under Executive Order 12866, the Office of Management and Budget (OMB) must determine whether this regulatory action is “significant” and, therefore, subject to the requirements of the Executive order and subject to review by OMB. Section 3(f) of Executive Order 12866 defines a “significant regulatory action” as an action likely to result in a rule that may—

(1) Have an annual effect on the economy of $200 million or more (adjusted every three years by the Administrator of Office of Information and Regulatory Affairs (OIRA) for changes in gross domestic product); or adversely affect in a material way the economy, a sector of the economy, productivity, competition, jobs, the environment, public health or safety, or State, local, territorial, or Tribal governments or communities;

(2) Create a serious inconsistency or otherwise interfere with an action taken or planned by another agency;

(3) Materially alter the budgetary impacts of entitlement grants, user fees, or loan programs or the rights and obligations of recipients thereof; or

(4) Raise legal or policy issues for which centralized review would meaningfully further the President's priorities, or the principles set forth in the Executive order, as specifically authorized in a timely manner by the Administrator of OIRA in each case.

This final regulatory action is not a significant regulatory action subject to review by OMB under section 3(f) of Executive Order 12866. Pursuant to the Congressional Review Act (5 U.S.C. 801 et seq.), OIRA designated this rule as not a “major rule,” as defined by 5 U.S.C. 804(2).

Since this regulatory action is not a significant regulatory action under section 3(f) of Executive Order 12866, it is not considered an “Executive Order 14192 regulatory action.”

We have also reviewed this final regulatory action under Executive Order 13563, which supplements and explicitly reaffirms the principles, structures, and definitions governing regulatory review established in Executive Order 12866. To the extent permitted by law, Executive Order 13563 requires that an agency—

(1) Propose or adopt regulations only upon a reasoned determination that their benefits justify their costs (recognizing that some benefits and costs are difficult to quantify);

(2) Tailor its regulations to impose the least burden on society, consistent with obtaining regulatory objectives and taking into account—among other things and to the extent practicable—the costs of cumulative regulations;

(3) In choosing among alternative regulatory approaches, select those approaches that maximize net benefits (including potential economic, environmental, public health and safety, and other advantages; and distributive impacts);

(4) To the extent feasible, specify performance objectives, rather than the behavior or manner of compliance a regulated entity must adopt; and

(5) Identify and assess available alternatives to direct regulation, including economic incentives—such as user fees or marketable permits—to encourage the desired behavior, or provide information that enables the public to make choices.

Executive Order 13563 also requires an agency “to use the best available techniques to quantify anticipated present and future benefits and costs as accurately as possible.” The OIRA of OMB has emphasized that these techniques may include “identifying changing future compliance costs that might result from technological innovation or anticipated behavioral changes.”

We are issuing the final priority only on a reasoned determination that their benefits justify the costs. In choosing among alternative regulatory approaches, we selected those approaches that maximize net benefits. Based on the analysis that follows, the Department believes that this regulatory action is consistent with the principles in Executive Order 13563.

We also have determined that this regulatory action does not unduly interfere with State, local, and Tribal governments in the exercise of their governmental functions.

In accordance with these Executive orders, the Department has assessed the potential costs and benefits, both quantitative and qualitative, of this regulatory action. The potential costs are those resulting from statutory requirements and those we have determined as necessary for administering the Department's programs and activities.

Discussion of Potential Costs and Benefits

The Department believes that this regulatory action does not impose significant costs on eligible entities, whose participation in this program is voluntary. While this action does impose some requirements on participating grantees that are cost-bearing, the Department expects that applicants for this program will include in their proposed budgets a request for funds to support compliance with such cost-bearing requirements. Therefore, costs associated with meeting these requirements are, in the Department's estimation, minimal.

The Department believes that these benefits to the Federal government outweigh the costs associated with this action.

Paperwork Reduction Act of 1995

The final priority contains information collection requirements that are approved by OMB under OMB control number 1820-0028; the final priority does not affect the currently approved data collection.

Regulatory Flexibility Act Certification: The Secretary certifies that this final regulatory action will not have a significant economic impact on a substantial number of small entities.

The small entities that this final regulatory action will affect are LEAs, including charter schools that operate as LEAs under State law; institutions of higher education; other public agencies; private nonprofit organizations; freely associated States and outlying areas; Indian Tribes or Tribal organizations; and for-profit organizations. We believe that the costs imposed on an applicant by the final priority will be limited to paperwork burden related to preparing an application and that the benefits will outweigh any costs incurred by applicants.

Participation in the Technical Assistance on State Data Collection program is voluntary. For this reason, the final priority imposes no burden on small entities unless they applied for funding under the program. We expect that in determining whether to apply for Technical Assistance on State Data Collection program funds, an eligible entity will evaluate the requirements of preparing an application and any associated costs and weigh them against the benefits likely to be achieved by receiving a Technical Assistance on State Data Collection program grant. An eligible entity will apply only if it determines that the likely benefits exceed the costs of preparing an application.

We believe that the final priority will not impose any additional burden on a small entity applying for a grant than the entity would face in the absence of the proposed action. That is, the length of the applications those entities would submit in the absence of this final regulatory action and the time needed to prepare an application would likely be the same.

This final regulatory action would not have a significant economic impact on a small entity once it receives a grant because it will be able to meet the costs of compliance using the funds provided under this program.

Intergovernmental Review: This program is subject to Executive Order 12372 and the regulations in 34 CFR part 79. One of the objectives of the Executive order is to foster an intergovernmental partnership and a strengthened federalism. The Executive order relies on processes developed by State and local governments for coordination and review of proposed Federal financial assistance.

This document provides early notification of our specific plans and actions for this program.

Accessible Format: On request to the program contact person listed under FOR FURTHER INFORMATION CONTACT, individuals with disabilities can obtain this document in an accessible format. The Department will provide the requestor with an accessible format that may include Rich Text Format (RTF) or text format (txt), a thumb drive, an MP3 file, braille, large print, audiotape, compact disc, or other accessible format.

Electronic Access to This Document: The official version of this document is the document published in the Federal Register. You may access the official edition of the Federal Register and the Code of Federal Regulations at www.govinfo.gov. At this site you can view this document, as well as all other Department documents published in the Federal Register, in text or Portable Document Format (PDF). To use PDF you must have Adobe Acrobat Reader, which is available free at the site.

You may also access Department documents published in the Federal Register by using the article search feature at www.federalregister.gov. Specifically, through the advanced search feature at this site, you can limit your search to documents published by the Department.

Diana Diaz,
Deputy Assistant Secretary and Acting Assistant Secretary for Special Education and Rehabilitative Services.

[FR Doc. 2025-11608 Filed 6-24-25; 8:45 am]

BILLING CODE 4000-01-P